OFFICE OF PERSONNEL MANAGEMENT

Proposed Collection; Comments Request for Review of an Expiring Information Collection: OPM Form 1203-FX, Occupational Questionnaire and Discontinuation of: OPM Form 1203-EZ, Occupational Questionnaire

AGENCY: Office of Personnel Management.

ACTION: Notice.

SUMMARY: In accordance with the Paperwork Reduction Act of 1995 (Pub. L. 104-13, May 22, 1995), this notice announces that the Office of Personnel Management (OPM) plans to submit to the Office of Management and Budget a request for the review of an expiring information collection form, Occupational Questionnaire (OPM Form 1203-FX). The Occupational Questionnaire is an optical scan form designed to collect applicant information and qualifications in a format suitable for automated processing and to create applicant records for an automated examining system. The 1203 series was commonly referred to as the “Qualifications and Availability Form C.” OPM has re-titled the series as “Occupational Questionnaire” to fit a more generic need. OPM uses this form to carry out its responsibility for open competitive examining for admission to the competitive service in accordance with section 3304, of title 5, United States Code.

OPM is not revising the current Occupational Questionnaire. OPM Form 1203-FX is a seven page version that allows the applicant to transmit information via facsimile, mail, or the Internet using a fillable Adobe Acrobat Reader (PDF) file.

Additionally, OPM is discontinuing the three-page version, OPM Form 1203-EZ which was previously approved by OMB in 2002. It was thought at that time the shortened form would reduce the public burden in applying for federal positions, but with the advent of platform changes to OPM's automated staffing product, the additional system programming needed to recognize the difference between the FX and EZ forms never occurred.

Comments are particularly invited on whether this information is necessary for the proper performance of OPM; whether it will have practical utility; whether OPM's estimate of public burden in the collection of the information is accurate, based on valid assumptions and methodology; and ways in which the burden of information collection can be minimized on those that respond through the use of appropriate collection technology or other forms of information technology.

The public reporting burden of collecting this information is estimated to vary from 20 to 45 minutes to complete this form including time for reviewing instructions, gathering the data needed, and completing and reviewing entries. The average time to complete the form is 30 minutes.

For copies of this proposal, contact Mary Beth Smith-Toomey at 202-606-8358, fax at 202-418-3251, or e-mail at mbtoomey@opm.gov. Please include a mailing address with your request.

DATES: Comments on this proposal should be received within 60 days from the date of this publication.

ADDRESSES: Send or deliver comments to—

U.S. Office of Personnel Management, Division of Human Resources Products and Services, Center for Talent Services, ATTN: Charles Conyers, 1900 E Street, NW., Room 1425, Washington, DC 20415-9820, E-mail: charles.conyers@opm.gov.

U.S. Office of Personnel Management.
Linda M. Springer,
Director.

[FR Doc. 05-22300 Filed 11-8-05; 8:45 am]

BILLING CODE 6325-38-P